DEPARTMENT OF THE TREASURY

Submission for OMB Review; Comment Request

September 26, 2005.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before November 2, 2005 after publication in the Federal Register to be assured of consideration.

Internal Revenue Service (IRS)

OMB Number: 1545-0238.

Type of Review: Extension.

Title: Certain Gambling Winnings.

Form: IRS form W-2G.

Description: IRC section 6041 requires payers of certain gambling winnings to report them to IRS. If applicable, section 3402(g) and section 3406 requires tax withholding on these winnings. IRS uses the information to ensure taxpayer income reporting compliance.

Respondents: Business or other for-profit, not-for-profit institutions, State, Local or Tribal Government.

Estimated Total Burden Hours: 1,272,479 hours.

OMB Number: 1545-0928.

Type of Review: Extension.

Title: REG-124667-02 (Final) Disclosure of Relative Values of Optional Forms of Benefit; EE-35-85 (Final) Income Tax: Taxable Years Beginning after December 31, 1953; OMB Control Number Under the Paperwork Reduction Act; Survivor Benefits, Distribution Restriction and Various Other Issues Under the Retirement Equity Act of 1984.

Description: These final regulations are required my statute and must be provided by employers to retirement plan participants to inform participants of their rights under the plan or under the law. Failure to timely notify participant of their rights may be result in loss of plan benefits.

Respondents: Business or other for profit, not-for-profit institutions.

Estimated Total Burden Hours: 385,000 hours.

OMB Number: 1545-1424.

Type of Review: Extension.

Title: Cancellation of Debt.

Form: IRS form1099-C.

Description: Form 1099-C is used for reporting canceled debt, as required by section 6050P of the Internal Revenue Code. It is used to verify that debtors are correctly reporting their income.

Respondents: Business or other for-profit, Not-for-profit institutions and Federal Government.

Estimated Total Burden Hours: 110,159 hours.

OMB Number: 1545-1492.

Type of Review: Extension

Title: Request for Closing Agreement Relating to Advance Refunding Issue Under Section 148 and 7121 and Revenue Procedure 96-41.

Form: IRS form 10001.

Description: Form 10001 is used in conjunction with a closing agreement program involving certain issuers of tax-exempt advance refunding bonds. Revenue Procedures 96-41 established this voluntary compliance program and prescribed the filing of Form 10001 to request a closing agreement.

Respondents: Not-for-profit institutions, State, Local or Tribal Government.

Estimated Total Burden Hours: 300 hours.

OMB Number: 1545-1150.

Type of Review: Extension.

Title: Short Form Return of Organization Exempt From Income Tax.

Form: IRS from 990-EZ.

Description: Form 990-EZ is needed to determine that IRS section 501(a) tax-exempt organizations fulfill the operating conditions with in the limitations of their tax exemption. IRS uses the information from this form to determine if the filers are operating within the rules of their exemption.

Respondents: Not-for-profit institutions.

Estimated Total Burden Hours: 7,005,220 hours.

Clearance Officer: Glenn P. Kirkland (202) 622-3428, Internal Revenue Service, Room 6516, 1111 Constitution Avenue, NW., Washington, DC 20224.

OMB Reviewer: Alexander T. Hunt (202) 395-7316, Office of Management and Budget, Room 10235, New Executive Office Building, Washington, DC 20503.

Michael A. Robinson,
Treasury PRA Clearance Officer.

[FR Doc. 05-19669 Filed 9-30-05; 8:45 am]

BILLING CODE 4830-01-P